DEPARTMENT OF COMMERCE

International Trade Administration

[A-357-812]

Honey From Argentina; Extension of Time Limit for Preliminary Results of Administrative Review

AGENCY: Import Administration, International Trade Administration, Department of Commerce.

ACTION: Notice of Extension of Time Limits.

SUMMARY: The Department of Commerce (the Department) is extending the time limit for the preliminary results of the 2001-2002 administrative review of the antidumping duty order on honey from Argentina. This review covers seven exporters of the subject merchandise to the United States and the period May 11, 2001 through November 30, 2002.

EFFECTIVE DATE: July 23, 2003.

FOR FURTHER INFORMATION CONTACT: Brian J. Sheba at (202) 482-0145 or Donna Kinsella at (202) 482-0194, Antidumping and Countervailing Duty Enforcement Group III, Office Eight, Import Administration, International Trade Administration, U.S. Department of Commerce, 14th Street and Constitution Avenue NW, Washington, DC 20230.

SUPPLEMENTARY INFORMATION: On January 22, 2003, in response to requests to conduct administrative reviews of various antidumping and countervailing duty orders and findings with December anniversary dates, we published a notice of initiation of this administrative review in the Federal Register. See Initiation of Antidumping and Countervailing Duty Administrative Reviews and Requests for Revocation in Part, 68 FR 3009. Reviews were requested for honey from Argentina (A-357-812) for the following exporters: Asociacion de Cooperativas Argentinas, Centauro S.A., Cia. Europeo Americana SA, Comexter, Robinson S.A., Compa Inversora Platense S.A., Compania Apicola Argentina SA, ConAgra Argentina S.A., Coope-Riel Ltda., Cooperativa DeAgua Potable y Otros, Establecimiento Don Angel S.r.L., Food Way, S.A., Francisco Facundo Rodriguez, Jay Bees, Jose Luis Garcia, HoneyMax S.A, Mielar S.A., Navicon S.A., Nexco S.A., Parodi Agropecuaria S.A., Radix S.r.L., Seylinco S.A., Times S.A., and Transhoney S.A.

Petitioners submitted a withdrawal of request for review on January 17, 2003 for the following companies: Centauro S.A., Comexter, Robinson S.A., Compa Inversora Platense S.A., ConAgra Argentina S.A., Coope-Riel Ltda., Cooperativa DeAgua Potable y Otros, Establecimiento Don Angel S.r.L., Food Way, S.A., Francisco Facundo Rodriguez, Jay Bees, Jose Luis Garcia, Navicon S.A., Parodi Agropecuaria S.A., and Times S.A. The Department rescinded this review with respect to the above companies on March 21, 2003. See Notice of Partial Rescission of Antidumping Duty Administrative Review, 68 FR 13895. The Department also rescinded the reviews for Compania Apicola Argentina S.A. and Mielar S.A., who submitted withdrawals of their requests for review on March 18, 2003 and March 26, 2003, respectively. See Notice of Partial Rescission of Antidumpting Duty Administrative Review, 68 FR 25568 (May 13, 2003).

Pursuant to the time limits for administrative reviews set forth in section 751(a)(3)(A) of the Tariff Act of 1930, as amended (the Tariff Act), the current deadlines are September 2, 2003 for the preliminary results and December 31, 2003 for the final results. It is not practicable to complete this review within the normal statutory time limit due to a number of significant case issues, such as sales below cost, high inflation, and currency devaluation. Therefore, the Department is extending the time limit for completion of the preliminary results until December 8, 2003 in accordance with section 751(a)(3)(A) of the Tariff Act. The deadline for the final results of this review will continue to be 120 days after publication of the preliminary results.

This extension is in accordance with section 751(a)(3)(A) of the Tariff Act (19 U.S.C. 1675 (a)(3)(A) (2001)).

Dated: July 16, 2003.
Barbara E. Tillman,
Acting Deputy Assistant Secretary for Import Administration, Group III.

[FR Doc. 03-18747 Filed 7-22-03; 8:45 am]

BILLING CODE 3510-DS-S